DEPARTMENT OF ENERGY

Federal Energy Regulatory Commission

[Docket No. ER99-2667-002, et al.]

Ameren Operating Companies, et al.; Electric Rate and Corporate Regulation Filings

January 13, 2000.

Take notice that the following filings have been made with the Commission:

1. Ameren Operating Companies

[Docket No. ER99-2776-002]

Take notice that on December 17, 1999, Ameren Services Company (Ameren), on behalf of the Ameren Operating Companies, made a compliance filing at the direction of the Commission's order issued in the above-captioned proceeding on December 1, 1999.

Copies of the filing have been served on the Illinois Commerce Commission, the Missouri Public Service Commission and all parties to the proceeding.

Comment date: January 24, 2000, in accordance with Standard Paragraph E at the end of this notice.

2. Maine Public Service Company

[Docket No. ER00-1053-000]

Take notice that on January 11, 2000, Maine Public Service Company (MPS) submitted pursuant to Section 205 of the Federal Power Act and Part 35 of the Commission's regulations, revisions to its Open Access Transmission Tariff (OATT) to implement retail open access in the state of Maine, to reflect that on March 1, 2000 the Northern Maine Independent System Administrator, Inc. (Northern Maine ISA) will begin operations, to modify its rate formula for the rates charged under the OATT, and to make various other revisions and corrections to its OATT.

MPS proposes that the revised OATT rates, terms and conditions become effective March 1, 2000.

Copies of this filing were served on the current customers under the OATT, participants in Maine Public Utilities Commission Docket No. 99-185, the Northern Maine ISA, and the state commission within whose jurisdiction MPS transmits electricity under the OATT.

Comment date: January 31, 2000, in accordance with Standard Paragraph E at the end of this notice.

3. Avista Corporation

[Docket No. ER00-1054-000]

Take notice that on January 11, 2000, Avista Corporation (AVA), tendered for filing with the Federal Energy Regulatory Commission pursuant to Section 35.12 of the Commission's Regulations (18 CFR 35.12), an executed Service Agreement under AVA's FERC Electric Tariff First Revised Volume No. 9, with PP&L Montana, LLC.

AVA requests waiver of the prior notice requirement and requests that the Service Agreement be accepted for filing and made effective December 21, 1999.

The filing has been served upon the following: Ms. Michelle Palmer, PP&L Montana, LLC, 45 Basin Creek Road, Butte, MT 59701.

Comment date: January 31, 2000, in accordance with Standard Paragraph E at the end of this notice.

4. Avista Corporation

[Docket No. ER00-1055-000]

Take notice that on January 11, 2000, Avista Corporation (AVA), tendered for filing with the Federal Energy Regulatory Commission pursuant to Section 35.12 of the Commission's Regulations (18 CFR 35.12), an executed Service Agreement under AVA's FERC Electric Tariff First Revised Volume No. 10, with PP&L Montana, LLC.

AVA requests waiver of the prior notice requirement and requests that the Service Agreement be accepted for filing effective December 21, 1999.

The filing has been served upon the following: Ms. Michelle Palmer, PP&L Montana, LLC, 45 Basin Creek Road, Butte, MT 59701.

Comment date: January 31, 2000, in accordance with Standard Paragraph E at the end of this notice.

5. Avista Corporation

[Docket No. ER00-1056-000]

Take notice that on January 11, 2000, Avista Corporation (AVA), tendered for filing with the Federal Energy Regulatory Commission pursuant to Section 35.12 of the Commission's Regulations (18 CFR 35.12), an executed Mutual Netting/Settlement with British Columbia Power Exchange Corporation, (Powerex), effective January 1, 2000.

The filing has been served upon the following: Mr. David Wong, Credit Risk Manager, British Columbia Power Exchange Corporation, Suite 1400, 666 Burrard Street, Vancouver, BC, Canada V6C 2X8.

Comment date: January 31, 2000, in accordance with Standard Paragraph E at the end of this notice.

6. Atlantic City Electric Company; Delmarva Power & Light Company; Otter Tail Power Company

[Docket Nos. ER00-1057-000; ER00-1058-000; ER00-1064-000]

Take notice that on January 11, 2000, the above-mentioned affiliated power producers and/or public utilities filed their quarterly reports for the quarter ending December 31, 1999.

Comment date: February 2, 2000, in accordance with Standard Paragraph E at the end of this notice.

7. PJM Interconnection, L.L.C., Docket No. ER00-1059-000.

Take notice that on January 11, 2000, (PJM), tendered for filing three executed umbrella service agreements for network integration transmission service under state required retail access programs. The agreements are with ACN Energy, Inc., KeySpan Energy Services, Inc., and Worley & Obetz, Inc. d/b/a Advanced Energy.

Copies of this filing were served upon the parties to the service agreements and the state commissions within the PJM control area.

Comment date: January 31, 2000, in accordance with Standard Paragraph E at the end of this notice.

8. AmerGen Energy Company, L.L.C., Docket No. ER00-1060-000.

Take notice on January 11, 2000, AmerGen Energy Company, L.L.C. tendered for filing a Service Agreement with Dynegy Power Marketing, Inc. under its FERC Electric Tariff Original Volume No. 1.

AmerGen is requesting an effective date of December 15, 1999 for the Service Agreement.

Comment date: January 31, 2000, in accordance with Standard Paragraph E at the end of this notice.

9. MidAmerican Energy Company, Docket No. ER00-1061-000.

Take notice that on January 11, 2000, MidAmerican Energy Company (MidAmerican), 666 Grand Avenue, 2900 Ruan Center, Des Moines, Iowa 50309 tendered for filing proposed changes to its Open Access Transmission Tariff (OATT). The changes are for the purpose of updating the Index of Point-to-Point Transmission Service Customers and the Index of Network Integration Tranmission Service Customers.

MidAmerican proposes that the rate schedule changes become effective on January 13, 2000 and requests a waiver of the Commissions notice requirements.

The proposed rate schedule changes have been mailed to all Transmission Customers having service agreements under the OATT, the Iowa Utilities Board and the Illinois Commission, the South Dakota Public Service Commission.

Comment date: January 31, 2000, in accordance with Standard Paragraph E at the end of this notice.

10. Florida Power Corporation, Docket No. ER00-1062-000.

Take notice that on January 11, 2000, Florida Power Company (FPC) tendered for filing service agreements between TXU Energy Trading Company and FPC and Merchant Energy Group of the Americas, Inc. and FPC under FPC's Market-Based Wholesale Power Sales tariff (MR-1), FERC Electric Tariff, Original Volume Number 8. This tariff was accepted for filing by the Commission on June 26, 1997, in Docket No. ER97-2846-000.

The service agreement with Merchant Energy Group of the Americas, Inc. is proposed to be effective December 29, 1999 and the service agreement with TXU Energy Trading Company is proposed to be effective January 6, 2000.

Comment date: January 31, 2000, in accordance with Standard Paragraph E at the end of this notice.

11. Virginia Electric and Power Company, Docket No. ER00-1063-000.

Take notice that on January 11, 2000, Virginia Electric and Power Company (Virginia Power) tendered on filing an Assignment and Assumption Agreement entered into by and among Strategic Energy, Ltd. (Assignor), Strategic Energy, LLC (Assignee) and Virginia Electric and Power Company (Virginia Power). Under this assignment, the Assignor assigns to the Assignee and the Assignee assumes all of the Assignor's rights and obligations pertaining to its Service Agreements with Virginia Power dated October 7, 1998 and accepted by Letter Order of the Commission on December 29, 1999 under Docket No. ER99-494-00 and ER99-495-000.

Virginia Power requests an effective date of the assignment of December 31, 1999.

Copies of this filing were served upon Strategic Energy LLC, the Virginia state Corporation Commission and the North Carolina Utilities Commission.

Comment date: January 31, 2000, in accordance with Standard Paragraph E at the end of this notice.

12. Portland General Electric Company, Docket No. ER00-1065-000.

Take notice that on January 11, 2000, Portland General Electric Company (PGE) tendered for filing an Amendment No. 2 to the Power Sales Agreement between PGE and the Canby Utility Board (PGE Rate Schedule FERC No. 192). The Amendment changes the termination date of the original agreement.

PGE respectfully requests the Commission grant a waiver of the notice requirements of 18 CFR 35.3 to allow Amendment No. 2 to PGE Rate Schedule FERC No. 192 to become effective January 12, 2000.

Copies of this filing were served upon the names listed in the filing letter.

Comment date: January 31, 2000, in accordance with Standard Paragraph E at the end of this notice.

13. PP&L, Inc., Docket No. ER00-1066-000.

Take Notice that on January 11, 2000, PP&L, Inc. (PP&L) filed a Service Agreement dated January 5, 2000 with The Energy Authority (EA) under PP&L's Market-Based Rate and Resale of Transmission Rights Tariff, FERC Electric Tariff, Revised Volume No. 5. The Service Agreement adds EA as an eligible customer under the Tariff.

PP&L requests an effective date of January 5, 2000 for the Service Agreement.

PP&L states that copies of this filing have been supplied to EA and the Pennsylvania Public Utility Commission.

Comment date: January 31, 2000, in accordance with Standard Paragraph E at the end of this notice.

14. Louisville Gas and Electric Company and Kentucky Utilities Company, Docket No. ER00-1067-000.

Take notice that on January 11, 2000 Louisville Gas and Electric Company (LG&E) and Kentucky Utilities (KU) (hereinafter Companies) tendered for filing fully executed Netting Agreements between the Companies and Illinova Power Marketing, Inc.

Comment date: January 31, 2000, in accordance with Standard Paragraph E at the end of this notice.

15. Louisville Gas and Electric Company and Kentucky Utilities Company

[Docket No. ER00-1068-000]

Take notice that on January 11, 2000 Louisville Gas and Electric Company (LG&E) and Kentucky Utilities (KU) (hereinafter Companies) tendered for filing an executed Firm Point-to-Point Transmission Service Agreement between the Companies and Cinergy Operating Companies under the Companies Open Access Transmission Tariff.

Comment date: January 31, 2000, in accordance with Standard Paragraph E at the end of this notice.

16. Louisville Gas and Electric Company and Kentucky Utilities Company

[Docket No. ER00-1069-000]

Take notice that on January 11, 2000 Louisville Gas and Electric Company (LG&E) and Kentucky Utilities (KU) (hereinafter Companies) tendered for filing an executed Firm Point-to-Point Transmission Service Agreement between the Companies and LGE Dispatch and Trading under the Companies Open Access Transmission Tariff.

Comment date: January 31, 2000, in accordance with Standard Paragraph E at the end of this notice.

17. Louisville Gas and Electric Company and Kentucky Utilities Company

[Docket No. ER00-1070-000]

Take notice that on January 11, 2000 Louisville Gas and Electric Company (LG&E) and Kentucky Utilities (KU) (hereinafter Companies) tendered for filing an executed Firm Point-to-Point Transmission Service Agreement between the Companies and LGE Dispatch and Trading under the Companies Open Access Transmission Tariff.

Comment date: January 31, 2000, in accordance with Standard Paragraph E at the end of this notice.

18. Louisville Gas and Electric Company and Kentucky Utilities Company

[Docket No. ER00-1071-000]

Take notice that on January 11, 2000 Louisville Gas and Electric Company (LG&E) and Kentucky Utilities (KU) (hereinafter Companies) tendered for filing an executed Firm Point-to-Point Transmission Service Agreement between the Companies and LGE Dispatch and Trading under the Companies Open Access Transmission Tariff.

Comment date: January 31, 2000, in accordance with Standard Paragraph E at the end of this notice.

19. Louisville Gas and Electric Company and Kentucky Utilities Company

[Docket No. ER00-1072-000]

Take notice that on January 11, 2000 Louisville Gas and Electric Company (LG&E) and Kentucky Utilities (KU) (hereinafter Companies) tendered for filing an executed Firm Point-to-Point Transmission Service Agreement between the Companies and LGE Dispatch and Trading under the Companies Open Access Transmission Tariff.

Comment date: January 31, 2000, in accordance with Standard Paragraph E at the end of this notice.

20. Louisville Gas and Electric Company and Kentucky Utilities Company

[Docket No. ER00-1073-000]

Take notice that on January 11, 2000 Louisville Gas and Electric Company (LG&E) and Kentucky Utilities (KU) (hereinafter Companies) tendered for filing an executed Firm Point-to-Point Transmission Service Agreement between the Companies and LGE Dispatch and Trading under the Companies Open Access Transmission Tariff.

Comment date: January 31, 2000, in accordance with Standard Paragraph E at the end of this notice.

21. Louisville Gas and Electric Company and Kentucky Utilities Company

[Docket No. ER00-1074-000]

Take notice that on January 11, 2000 Louisville Gas and Electric Company (LG&E) and Kentucky Utilities (KU) (hereinafter Companies) tendered for filing an executed Firm Point-to-Point Transmission Service Agreement between the Companies and LGE Dispatch and Trading under the Companies Open Access Transmission Tariff.

Comment date: January 31, 2000, in accordance with Standard Paragraph E at the end of this notice.

22. Wisvest-Connecticut, LLC

[Docket No. ER00-1078-000]

Take notice that on January 12, 2000 Wisvest-Connecticut, LLC filed their quarterly report for the quarter ending December 31, 1999.

Comment date: February 2, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-1579 Filed 1-21-00 8:45 am]

BILLING CODE 6717-01-M